DEPARTMENT OF TRANSPORTATION

National Highway Traffic Safety Administration

Denial of Motor Vehicle Defect Petition, DP02-004

AGENCY: National Highway Traffic Safety Administration (NHTSA), Department of Transportation.

ACTION: Denial of petition for a defect investigation.

SUMMARY: This notice sets forth the reasons for the denial of a petition submitted to NHTSA under 49 U.S.C. 30162, requesting that the agency initiate an investigation to determine the existence of a defect related to motor vehicle safety. The petition is identified as DP02-004.

FOR FURTHER INFORMATION CONTACT: Mr. Jonathan White, Office of Defects Investigation (ODI), NHTSA, 400 Seventh Street, SW., Washington, DC 20590. Telephone: (202) 366-5226.

SUPPLEMENTARY INFORMATION: Ms. Charlene Blake, Vienna, VA, submitted a petition to NHTSA by letter dated April 9, 2002, requesting that an investigation be initiated to determine whether to issue an order concerning a defect in Model Year 1997 to 2001 Toyota Camry, Solara, Sienna, Avalon, Celica and Highlander vehicles and Lexus ES 300 and RX 300 vehicles. The petitioner alleges sudden engine seizure in certain aforementioned vehicles attributable to engine sludge-related problems.

In February 2002, Toyota Motor Sales, USA, Incorporated (Toyota) initiated a Special Policy Adjustment (SPA) covering the aforementioned model vehicles. In April 2002, Toyota expanded the SPA to include certain model year 2002 production for the same models. Toyota's SPA program is designed to provide assistance to consumers who have experienced engine problems related to “oil gelling” or “sludge.” While aggravating to the owner, this problem appears to have limited safety implications within the meaning of NHTSA's authorizing statue. Moreover, given the actions taken by Toyota to address this problem, NHTSA does not believe that pursuing this matter would be an effective use of its resources.

In view of the foregoing, it is unlikely that NHTSA would issue an order for the notification and remedy of an alleged safety-related defect as defined by the petitioner in the subject vehicles at the conclusion of the investigation requested in the petition. Therefore, in view of the need to allocate and prioritize NHTSA's limited resources to best accomplish the agency's safety mission, the petition is denied.

Authority: 49 U.S.C. 30162(d); delegations of authority at CFR 1.50 and 501.8.

Issued on: June 12, 2002.
Kenneth N. Weinstein,
Associate Administrator for Safety Assurance.

[FR Doc. 02-15499 Filed 6-16-02; 8:45 am]

BILLING CODE 4910-59-P